DEPARTMENT OF AGRICULTURE

Forest Service

Forest Resource Coordinating Committee; Meetings

AGENCY: Forest Service, USDA.

ACTION: Notice of meeting.

SUMMARY: The Forest Resource Coordinating Committee Meeting will meet in Washington, DC. The Committee is authorized under section 8005 of the Food, Conservation, and Energy Act of 2008 (the Act) (Pub. L. 110-246). Additional information concerning the Committee, including the meeting agenda, supporting documents and minutes, can be found by visiting the Committee's Web site at http://www.fs.fed.us/spf/coop/frcc/.

DATES: The meeting will be held on April 15-16, 2015 from 8:00 a.m. to 4:45 p.m. Eastern Daylight Time (EDT). The meeting is subject to cancellation. For status of the meeting prior to attendance, please contact the person listed under FOR FURTHER INFORMATION CONTACT.

ADDRESSES: The meeting will be held at the USDA Sidney R Yates Building, 201 14th St. SW., Pinchot Conference Room, Washington, DC. Members of the public should RSVP to facilitate entry into the Yates Building. Written comments may be submitted as described under SUPPLEMENTARY INFORMATION. All comments, including names and addresses when provided, are placed in the record and are available for public inspection and copying. The public may inspect comments placed on the Committee's Web site listed above.

FOR FURTHER INFORMATION CONTACT: Andrea Bedell-Loucks, Forest Resource Coordinating Committee Designated Federal Officer, Cooperative Forestry Staff, by phone at 202-205-1190 or Laurie Schoonhoven, Forest Resource Coordinating Committee Program Coordinator, Cooperative Forestry Staff, by phone at 202-205-0929.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Develop recommendations to submit to the Secretary regarding alignment of landowner assistance delivery systems, forest inventory and analysis, markets, forest conditions and health, and landscape scale conservation and management,

2. Hear updates on efforts to address previous recommendations, and

3. Develop a communication strategy.

The meeting is open to the public. The agenda will include time for people to make oral statements of three minutes or less. Individuals wishing to make an oral statement should submit a request in writing by April 5, 2015 to be scheduled on the agenda. Anyone who would like to bring related matters to the attention of the Committee may file written statements with the Committee staff before April 10, 2015. Written comments and time requests for oral comments must be sent to Laurie Schoonhoven, 1400 Independence Ave. SW., mailstop 1123, Washington, DC 20250, or by email to lschoonhoven@fs.fed.us. A summary of the meeting will be posted at http://www.fs.fed.us/spf/coop/frcc within 21 days after the meeting.

Meeting Accommodations: If you are a person requiring reasonable accommodation, please make requests in advance for sign language interpreting, assistive listening devices or other reasonable accommodations for access to the facility or proceedings by contacting the person listed under the For Further Information Contact. All reasonable accommodation requests are managed on a case by case basis.

Dated: March 6, 2015.
Patricia Hirami,
Associate Deputy Chief, State and Private Forestry.

[FR Doc. 2015-05872 Filed 3-13-15; 8:45 am]

BILLING CODE 3411-15-P